FEDERAL COMMUNICATIONS COMMISSION

47 CFR Part 64

[CG Docket Nos. 03-123, 10-51, and 13-24; DA 23-29; FRS 124041]

Comment Sought on Petition for Partial Reconsideration of Report and Order on TRS User Registration

AGENCY: Federal Communications Commission.

ACTION: Petition for partial reconsideration.

SUMMARY: In this document, the Commission seeks comment on a petition for partial reconsideration filed by Sorenson Communications, LLC, of the Registration Grace Period Order (Petition), in which the Commission amended its rules for Video Relay Service (VRS) and Internet Protocol Captioned Telephone Service (IP CTS) to allow consumers who are registering for service for the first time, or changing their service provider, to begin using the service without delay, pending completion of the user registration process.

DATES: Oppositions to the Petition must be filed on or before February 15, 2023. Replies to an opposition must be filed on or before February 27, 2023.

ADDRESSES: Oppositions and replies may be filed, identified by CG Docket Nos. 03-123, 10-51, and 13-24, using the Commission's Electronic Comment Filing System (ECFS).

• Electronic Filers: Oppositions and replies may be filed electronically using the internet by accessing the ECFS: https://www.fcc.gov/ecfs/filings/standard.

• Paper Filers:

○ Parties who choose to file by paper must file an original and one copy of each filing. If more than one docket or rulemaking number appears in the caption of this proceeding, filers must submit two additional copies for each additional docket or rulemaking number.

○ Filings can be sent by hand or messenger delivery, by commercial overnight courier, or by first-class or overnight U.S. Postal Service mail. All filings must be addressed to the Commission's Secretary, Office of the Secretary, Federal Communications Commission.

○ Currently, the Commission does not accept any hand delivered or messenger delivered filings as a temporary measure taken to help protect the health and safety of individuals, and to mitigate the transmission of COVID-19. In the event that the Commission announces the lifting of COVID-19 restrictions, a filing window will be opened at the Commission's office located at 9050 Junction Drive, Annapolis Junction, MD 20701.

○ Commercial overnight mail (other than U.S. Postal Service Express Mail and Priority Mail) must be sent to 9050 Junction Drive, Annapolis Junction, MD 20701.

○ U.S. Postal Service first-class, Express, and Priority mail may be addressed to 45 L Street NE, Washington, DC 20554.

○ During the time the Commission's building is closed to the general public and until further notice, if more than one docket or rulemaking number appears in the caption of a proceeding, paper filers need not submit two additional copies for each additional docket or rulemaking number; an original and one copy are sufficient.

FOR FUTHER INFORMATION CONTACT: William Wallace, Consumer and Governmental Affairs Bureau, at: (202) 418-2716; email: William.Wallace@fcc.gov.

SUPPLEMENTARY INFORMATION: This is a summary of the Commission's Public Notice, DA 23-29, in CG Docket Nos. 03-123, 10-51, and 13-24, released on January 12, 2023. The full text of the Petition can be accessed online via the Commission's Electronic Comment Filing System at: https://www.fcc.gov/ecfs/document/1021129108560/1. To request materials in accessible formats for people with disabilities (Braille, large print, electronic files, audio format), send an email to fcc504@fcc.gov or call the Consumer and Governmental Affairs Bureau at: (202) 418-0530.

Synopsis

In the Registration Grace Period Order, 87 FR 57645, September 21, 2022, the Commission amended its rules to allow VRS and IP CTS providers to receive compensation for calls from the Interstate Telecommunications Relay Services (TRS) Fund during a two-week grace period while completion of the registration process is pending. In the Petition, Sorenson requests that the Commission reconsider the decision to require providers to: terminate compensable service to new users who cannot complete the registration process within the two-week “grace period”; and port a user back to the user's prior provider when re-registration upon porting-in to a new provider has not been completed within two weeks.

Federal Communications Commission.
Robert Garza,
Legal Advisor, Consumer and Governmental Affairs Bureau.

[FR Doc. 2023-01669 Filed 1-30-23; 8:45 am]

BILLING CODE 6712-01-P